DEPARTMENT OF ENERGY

Federal Energy Regulatory Commission

[Project No. 2569-150; Project No. 2538-093]

Erie Boulevard Hydropower, L.P.; Notice of Intent To File License Application, Filing of Pre-Application Document (Pad), Commencement of Pre-Filing Process, and Scoping; Request for Comments on the Pad and Scoping Document, and Identification of Issues and Associated Study Requests

a. Type of Filing: Notice of Intent to File License Application for a New License and Commencing Pre-filing Process.

b. Project No.: 2569-150 and 2538-093.

c. Dated Filed: July 30, 2021.

d. Submitted By: Erie Boulevard Hydropower, L.P. (Erie).

e. Name of Projects: Black River Hydroelectric Project (Black River Project; P-2569) and Beebee Island Hydroelectric Project (Beebee Island Project; P-2538).

f. Locations: The Black River Project consists of five developments located along the Black River in Jefferson County, New York (from upstream to downstream): Herrings, Deferiet, Kamargo, Black River, and Sewalls. The Beebee Island Project consists of a single development also located along the Black River in Jefferson County, New York. The projects do not occupy federal land.

g. Filed Pursuant to: 18 CFR part 5 of the Commission's Regulations.

h. Potential Applicant Contact: Mr. Steven P. Murphy, Director, U.S. Licensing Brookfield Renewable 33 West 1st Street South, Fulton, New York 13069; (315) 598-6130; Steven.Murphy@brookfieldrenewable.com.

i. FERC Contact: Samantha Pollak at (202) 502-6419 or email at samantha.pollak@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) The U.S. Fish and Wildlife Service under section 7 of the Endangered Species Act and the joint agency regulations thereunder at 50 CFR, Part 402 and (b) the State Historic Preservation Office, as required by section 106, National Historic Preservation Act, and the implementing regulations of the Advisory Council on Historic Preservation at 36 CFR 800.2.

l. With this notice, we are designating Erie as the Commission's non-federal representative for carrying out informal consultation, pursuant to section 7 of the Endangered Species Act and section 106 of the National Historic Preservation Act.

m. Erie filed with the Commission a Pre-Application Document (PAD, including a proposed process plan and schedule), pursuant to 18 CFR 5.6 of the Commission's regulations.

n. In addition to publishing the full text of this document in the Federal Register, the Commission provides all interested persons an opportunity to view and/or print the contents via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCONlineSupport@ferc.gov or call toll-free, (866) 208-3676 or TYY, (202) 502-8659.

Register online at http://www.ferc.gov/docs-filing/esubscription.asp to be notified via email of new filings and issuances related to this or other pending projects. For assistance, contact FERC Online Support.

o. With this notice, we are soliciting comments on the PAD and Commission's staff Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2569-150 for the Black River Project and P-2538-093 for the Beebee Island Project.

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by November 29, 2021.

p. The Commission's scoping process will help determine the required level of analysis and satisfy the National Environmental Policy Act (NEPA) scoping requirements, irrespective of whether the Commission prepares an environmental assessment or environmental impact statement.

Scoping Meetings

Due to on-going concerns with large gatherings related to COVID-19, we do not intend to hold in-person public scoping meetings or an in-person environmental site review. Rather, we will hold virtual public scoping meetings and a virtual environmental site review. The daytime scoping meeting will focus on resource agency, Indian tribes, and non-governmental organization (NGO) concerns, while the evening scoping meeting will focus on receiving input from the public. We invite all interested agencies, Native American tribes, NGOs, and individuals to attend one of these meetings to assist us in identifying the scope of environmental issues that should be analyzed in the NEPA document. These meetings will also cover the Beaver River Hydroelectric Project (P-2645), as this project has the same applicant who filed a PAD and NOI simultaneously with these projects.

The dates and times of these meetings are as follows:

Date and Time

Virtual site tour for all stakeholders:

Wednesday, October 27, 2021

9:00 a.m.-11:00 a.m. EDT

WebEx meeting details provided by HDR staff

Meeting for resource agencies, Tribes, and NGOs:

Thursday, October 28, 2021

9:00 a.m.-12:00 p.m. EDT

Call in number: 888-604-9359, Participant passcode: 8998724

Meeting for the general public:

Thursday, October 28, 2021

6:30 p.m.-8:30 p.m. EDT

Call in number: 888-604-9359, Participant passcode: 8998724

The individuals and entities on the Commission's mailing list were notified, via electronic notification, of the availability of SD1 on the web. SD1, which outlines the subject areas to be addressed in the environmental document, was mailed to the individuals and entities on the Commission's mailing list and Erie's distribution list. Copies of SD1 may be viewed on the web at http://www.ferc.gov, using the “eLibrary” link. Follow the directions for accessing information in paragraph n. Based on all oral and written comments, a Scoping Document 2 (SD2) may be issued. SD2 may include a revised process plan and schedule, as well as a list of issues, identified through the scoping process.

Environmental Site Review

Erie and Commission staff will hold a virtual environmental site review of the Black River and Beebee Island projects on October 27, 2021, starting at 9 a.m. Please contact Kelsey Scott of HDR, Inc. at (315) 414-2206 or kelsey.scott@hdrinc.com, by October 26, 2021, if you plan to attend. WebEx meeting details will be provided by HDR staff once attendance is confirmed.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss the appropriateness of any federal or state agency or Indian tribe acting as a cooperating agency for development of an environmental document. Meeting participants should come prepared to discuss their issues and/or concerns. Please review the PAD in preparation for the scoping meetings. Directions on how to obtain a copy of the PAD and SD1 are included in item n. of this document.

Meeting Procedures

The meetings will be recorded by a stenographer and will be filed in the public records of the projects.

Dated: September 28, 2021.
Kimberly D. Bose,
Secretary.

[FR Doc. 2021-21545 Filed 10-1-21; 8:45 am]

BILLING CODE 6717-01-P